Title 3—

The President

Notice of September 10, 2004

Continuation of the National Emergency With Respect to

Certain Terrorist Attacks

Consistent with section 202(d) of the National Emergencies Act (50 U.S.C. 1622(d)), I am continuing for 1 year the national emergency I declared on September 14, 2001, in Proclamation 7463, with respect to the terrorist attacks at the World Trade Center, New York, New York, and the Pentagon, and the continuing and immediate threat of further attacks on the United States.

By Executive Order 13223 of September 14, 2001, and Executive Order 13253 of January 16, 2002, I delegated authority to the Secretary of Defense and the Secretary of Transportation to order members of the Reserve Components to active duty and to waive certain statutory military personnel requirements. By Executive Order 13235 of November 16, 2001, I delegated authority to the Secretary of Defense to exercise certain emergency construction authority. By Executive Order 13286 of February 28, 2003, I transferred the authority delegated to the Secretary of Transportation in Executive Order 13223 to the Secretary of Homeland Security.

Because the terrorist threat continues, the national emergency declared on September 14, 2001, and the measures taken on September 14, 2001, November 16, 2001, and January 16, 2002, to deal with that emergency, must continue in effect beyond September 14, 2004. Therefore, I am continuing in effect for an additional year the national emergency I declared on September 14, 2001, with respect to the terrorist threat.

This notice shall be published in the Federal Register and transmitted to the Congress.

B

THE WHITE HOUSE,

Washington, September 10, 2004.

[FR Doc. 04-20778

Filed 9-10-04; 12:57 pm]

Billing code 3195-01-P